ENVIRONMENTAL PROTECTION AGENCY

40 CFR Part 271

[FRL-6938-9]

Maryland: Final Authorization of State Hazardous Waste Management Program Revisions

AGENCY: Environmental Protection Agency (EPA).

ACTION: Proposed rule.

SUMMARY: Maryland has applied to EPA for Final authorization of changes to its hazardous waste program under the Resource Conservation and Recovery Act (RCRA). EPA proposes to grant such Final authorization to Maryland. In the “Rules and Regulations” section of this Federal Register, EPA is authorizing the changes by an immediate final rule. EPA did not make a proposal prior to the immediate final rule because we believe this action is not controversial and we do not expect comments that oppose it. We have explained the reasons for this authorization in the preamble to the immediate final rule. Unless we get written comments which oppose this authorization during the comment period, the immediate final rule will become effective on the date it establishes, and we will not take further action on this proposal. If we get comments that oppose this action, we will withdraw the immediate final rule, and it will not take effect. We will then respond to public comments in a later final rule based on this proposal. You may not have another opportunity for comment. If you want to comment on this action, you must do so at this time.

DATES: Send your written comments by July 2, 2001.

ADDRESSES: Send written comments to Carol Johnson, Mailcode 3WC21, RCRA State Programs Branch, U.S. EPA Region III, 1650 Arch Street, Philadelphia, PA 19103-2029, Phone number: (215) 814-3378. You can examine copies of the materials submitted by Maryland during normal business hours at the following locations: EPA Region III, Library, 2nd Floor, 1650 Arch Street, Philadelphia, PA 19103-2029, Phone number: (215) 814-5254; or Maryland Department of the Environment, Waste Management Administration, Hazardous Waste Program, 2500 Broening Highway, Baltimore, Maryland 21224, Phone number (410) 631-3345. If you are interested in examining copies at the Maryland Department of the Environment, please contact Mr. Edward Hammerberg.

FOR FURTHER INFORMATION CONTACT: Carol Johnson, Mailcode 3WC21, RCRA State Programs Branch, U.S. EPA Region III, 1650 Arch Street, Philadelphia, PA 19103, Phone number (215) 814-3378.

SUPPLEMENTARY INFORMATION: For additional information, please see the immediate final rule published in the “Rules and Regulations” section of this Federal Register.

Dated: January 17, 2001.
Bradley M. Campbell,
Regional Administrator, Region III.

[FR Doc. 01-13777 Filed 5-31-01; 8:45 am]

BILLING CODE 6560-50-U